DEPARTMENT OF COMMERCE

National Oceanic and Atmospheric Administration

RIN 0648-XE945

Pacific Fishery Management Council; Public Workshop

AGENCY: National Marine Fisheries Service (NMFS), National Oceanic and Atmospheric Administration (NOAA), Commerce.

ACTION: Notice of a public workshop.

SUMMARY: The Pacific Fishery Management Council (Pacific Council) is sponsoring a workshop to review methods used to reconstruct historical groundfish catches off Washington, Oregon, and California. The workshop is open to the public.

DATES: The Historical Catch Reconstruction Workshop will commence at 1 p.m. PST, Tuesday, November 1, 2016 and continue until 5:30 p.m. or as necessary to complete business for the day. The workshop will reconvene on Wednesday, November 2 and Thursday, November 3, starting at 8:30 a.m. PST each day and continuing as necessary to complete business for the day.

ADDRESSES: The Historical Catch Reconstruction Workshop will be held at the Sheraton Portland Airport Hotel, Garden A-B Room, 8235 NE Airport Way, Portland, OR 97220; telephone: (503) 281-2500.

Council address: Pacific Fishery Management Council, 7700 NE Ambassador Place, Suite 101, Portland, OR 97220-1384; telephone: (503) 820-2280.

FOR FURTHER INFORMATION CONTACT: Mr. John DeVore, Pacific Council; telephone: (503) 820-2413.

SUPPLEMENTARY INFORMATION: The purpose of the Historical Catch Reconstruction Workshop is to review proposed methods for reconstructing the historical catches of groundfish off Washington, Oregon, and California. Data stewards and others who are familiar with catch accounting systems will participate in the workshop. Recommended methods for reconstructing historical groundfish catches will be made available for use in groundfish stock assessments in 2017 and beyond. Public comments during the workshop will be received from attendees at the discretion of the chair.

Although non-emergency issues not identified in the workshop agenda may come before the workshop participants for discussion, those issues may not be the subject of formal action during this workshop. Formal action at the workshop will be restricted to those issues specifically listed in this notice and any issues arising after publication of this notice that require emergency action under Section 305(c) of the Magnuson-Stevens Fishery Conservation and Management Act, provided the public has been notified of the workshop participants' intent to take final action to address the emergency.

Special Accommodations

This meeting is physically accessible to people with disabilities. Requests for auxiliary aids should be directed to Mr. Kris Kleinschmidt at (503) 820-2425 at least 10 days prior to the workshop date.

Dated: October 5, 2016.
Tracey L. Thompson,
Acting Deputy Director, Office of Sustainable Fisheries, National Marine Fisheries Service.

[FR Doc. 2016-24454 Filed 10-7-16; 8:45 am]

BILLING CODE 3510-22-P